DEPARTMENT OF THE INTERIOR

Bureau of Land Management

[ID-086-1430-ES]

Notice of Termination of Recreation and Public Purposes Act Classification and Opening Order; Idaho

AGENCY: Bureau of Land Management, Interior.

ACTION: Termination of Recreation and Public Purposes Act Classification and opening order; Idaho.

SUMMARY: This notice terminates a portion of a Recreation and Public Purposes Act Classification on 40.55 acres, as this classification is no longer needed.

EFFECTIVE DATE: November 25, 2002.

FOR FURTHER INFORMATION CONTACT: Scott Forssell, BLM Coeur d'Alene Field Office, 1808 N. Third St., Coeur d'Alene, ID, 83814 or call (208) 769-5044.

SUPPLEMENTARY INFORMATION: On April 7, 1978, 57.15 acres were classified as suitable for entry under the Recreation and Public Purposes Act of June 14, 1926, as amended (43 U.S.C. 869). The legal description of this parcel is: Lots 3-5, section 10, T.48N., R.3E., Boise Meridian, Idaho. The classification and segregation for lot 5, section 10, T.48N., R.3E., Boise Meridian, Idaho, remains unaffected by this notice.

Both the classification and the segregation for the following described 40.55 acres is hereby terminated: lots 3 and 4, section 10, T.48N., R.3E., Boise Meridian, Idaho.

A local non-profit organization holds a Recreation and Public Purposes Act lease on public land. They have relinquished a portion of that lease. Federal regulations require that the classification on the lands formerly leased be terminated and that the lands be once again opened to the public land laws.

These lands will be opened to operation of the public land laws generally, including the mining laws, subject to valid existing rights, the provisions of existing withdrawals, other segregations of record and the requirements of applicable law upon publication of this notice in the Federal Register.

Dated: October 8, 2002.
Jenifer Arnold,
Acting District Manager.

[FR Doc. 02-29823 Filed 11-22-02; 8:45 am]

BILLING CODE 4310-GG-P